DEPARTMENT OF ENERGY

Federal Energy Regulatory Commission

Notice of Application Tendered for Filing With the Commission, Soliciting Additional Study Requests, and Establishing Procedures for Relicensing and a Deadline for Submission of Final Amendments

May 16, 2001.

Take notice that the following hydroelectric application has been filed with the Commission and is available for public inspection.

a. Type of Application: New Minor License.

b. Project No.: 3410-009.

c. Date Filed: April 30, 2001.

d. Applicant: Woods Lake Hydro Company.

e. Name of Project: Woods Lake Hydro Project.

f. Location: On Lime Creek, a tributary of Frying Pan River, in Eagle County, Colorado. The project occupies 2.73 acres of federal lands within the White River National Forest.

g. Filed Pursuant to: Federal Power Act 16 U.S.C. 791 (a)-825(r).

h. Applicant Contact: Kenneth M. Knight, Woods Lake Hydro Company, P.O. Box 11175, Aspen, Colorado (970) 925-8854.

i. FERC Contact: Gaylord W. Hoisington, (202) 219-2756 or gaylord.hoisington@FERC.fed.us.

All documents (original and eight copies) should be filed with: David P. Boergers, Secretary, Federal Energy Regulatory Commission, 888 First Street, NE, Washington, DC 20426. Comments, protests, interventions and additional study requests may be filed electronically via the internet in lieu of papers. See, 18 CFR 385.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on the resource agency.

k. This application is not ready for environmental analysis at this time.

l. The existing Woods Lake Project consists of: (1) A 37.3-foot-long, 6-foot-high overflow-type gravity dam; (2) a reservoir having a surface area of 0.018 acre and a storage capacity of 0.09 acre-foot of storage capacity; (3) a gated and screened intake structure; (4) a gated 15-inch 630-foot-long PVC pipeline penstock; (5) a powerhouse containing a generating unit having an installed capacity of 45-kilowatts; (6) a short 24-inch-diameter CMP tailrace pipe; (7) a 1.02-mile-long transmission line; and (8) a switch gear, power controls, breaker boxes switches, meters, transformers, and other appurtenant facilities. The applicant estimates that the total average annual generation would be 98,640 kilowatt-hours. All generated power is utilized within the applicant's existing electric utility system.

m. A copy of the application is available for inspection and reproduction at the address in item h above.

n. With this notice, we are initiating consultation with the Colorado State Historic Preservation Officer (SHPO), as required by § 106, National Historic Preservation Act, and the regulations of the Advisory Council on Historic Preservation, 36 CFR 800.4.

o. Procedural schedule and final amendments: The application will be processed according to the following milestones, some of which be combined to expedite processing:

Notice of application has been accepted for filing

Notice of NEPA Scoping (unless scoping has already occurred)

Notice of application is ready for environmental analysis

Notice of the availability of the draft NEPA document

Notice of the availability of the final NEPA document

Ordering issuing the Commission's decision on the application

Final amendments to the application must be filed with the Commission no later than 30 days from the issuance date of the notice of ready for environmental analysis.

David P. Boergers,
Secretary.

[FR Doc. 01-12785 Filed 5-2-01; 8:45 am]

BILLING CODE 6717-01-M